DEPARTMENT OF HEALTH AND HUMAN SERVICES

[Document Identifier: OS-0990-XXXX]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Family Planning Annual Report 2.0.

Type of Collection: New.

OMB No.: 0990-NEW—Office of Population Affairs.

Abstract: The Office of Population Affairs (OPA), within the Office of the Assistant Secretary for Health, seeks approval for a new 3-year encounter level data collection for the Family Planning Annual Report (FPAR). Currently collected in aggregate under OMB No. 0990-0221, this new data collection, “FPAR 2.0”, will collect information at the encounter level and build on the existing data collection and reporting system. This annual reporting requirement is for competitively awarded grants authorized and funded by the Title X Family Planning Program.

Estimated Annualized Burden Table
Type of respondent | Number of respondents | Number responses per respondent | Average burden per response (in hours) | Total burden hours
Grantees | 70 | 1 | 102 | 7140
Total | 70 | 1 | 102 | 7140

Sherrette A. Funn,
Paperwork Reduction Act Reports Clearance Officer, Office of the Secretary.

[FR Doc. 2021-12113 Filed 6-9-21; 8:45 am]

BILLING CODE 4150-34-P